DEPARTMENT OF HOMELAND SECURITY

Coast Guard

33 CFR Part 165

[Docket No. CGD09-07-069]

Safety Zone; Milwaukee Harbor, Milwaukee, WI

AGENCY: Coast Guard, DHS.

ACTION: Notice of enforcement.

SUMMARY: The Coast Guard will enforce the Milwaukee Harbor Safety Zone in Milwaukee Harbor during August through September 2007. This action is necessary to protect vessels and people from the hazards associated with fireworks displays. This safety zone will restrict vessel traffic from a portion of the Captain of the Port Lake Michigan Zone.

DATES: Effective from 10 p.m. on August 19, 2007 to 11 p.m. on September 8, 2007.

FOR FURTHER INFORMATION CONTACT: CWO Brad Hinken, Prevention Department, Coast Guard Sector Lake Michigan, Milwaukee, WI at (414) 747-7154.

SUPPLEMENTARY INFORMATION: The Coast Guard will enforce the Safety Zone, Milwaukee Harbor, Milwaukee, WI, 33 CFR 165.935 for the following events:

(1) Irish Fest fireworks display on August 19, 2007 from 10 p.m. through 11 p.m.; and

(2) Mexican Fiesta fireworks display on August 24, 2007 from 9 p.m. through 11 p.m.; and

(3) Indian Summer fireworks displays on September 8, 2007 from 9 p.m. through 11 p.m.

All vessels must obtain permission from the Captain of the Port or his on-scene representative to enter, move within or exit the safety zone. Vessels and persons granted permission to enter the safety zone shall obey all lawful orders or directions of the Captain of the Port or a designated representative. While within a safety zone, all vessels shall operate at the minimum speed necessary to maintain a safe course.

This notice is issued under authority of 33 CFR 165.935 Safety Zone, Milwaukee Harbor, Milwaukee, WI (published on June 13, 2007 at 72 FR 32522) and 5 U.S.C. 552(a). In addition to this notice in the Federal Register, the Coast Guard will provide the maritime community with advance notification of these enforcement periods via broadcast Notice to Mariners and Local Notice to Mariners. The Captain of the Port will issue a Broadcast Notice to Mariners notifying the public when enforcement of the safety zone established by this section is suspended. The Captain of the Port may be contacted via U.S. Coast Guard Sector Lake Michigan on channel 16, VHF-FM.

Dated: August 6, 2007.
Bruce C. Jones,
Captain, U.S. Coast Guard, Captain of the Port Lake Michigan.

[FR Doc. E7-16018 Filed 8-14-07; 8:45 am]

BILLING CODE 4910-15-P